DEPARTMENT OF AGRICULTURE

Commodity Credit Corporation

Farm Service Agency

Information Collection Request; Marketing Assistance Loans, Farm Storage Facility Loans, and Farm Loan Programs

AGENCY: Commodity Credit Corporation and Farm Service Agency, USDA.

ACTION: Notice and request for comments.

SUMMARY: In accordance with the Paperwork Reduction Act of 1995, the Commodity Credit Corporation (CCC) and the Farm Service Agency (FSA) are requesting comments from all interested individuals and organizations on an extension and revision of a currently approved information collection that supports CCC and FSA loan programs. The information collection is necessary to gather data regarding the applicant which is required on a financing statement, and to obtain the applicant's permission to file a financing statement prior to the execution of a security agreement.

DATES: Comments: We will consider comments we receive by April 13, 2018.

ADDRESSES: We invite you to submit comments on this notice. In your comment, include date, volume, and page number of this issue of the Federal Register. You may submit comments by any of the following methods:

• Federal eRulemaking Portal: Go to www.regulations.gov. Follow the online instructions for submitting comments.

• Mail: Angela Payton, Agricultural Program Specialist, USDA, FSA, Stop 0512, 1400 Independence Avenue SW, Washington, DC 20250.

You may also send comments to the Desk Officer for Agriculture, Office of Information and Regulatory Affairs, Office of Management and Budget, Washington, DC 20503. Copies of the information collection may be requested by contacting Angela Payton at the phone number below or the above address.

FOR FURTHER INFORMATION CONTACT: Angela Payton; (202) 720-0482.

SUPPLEMENTARY INFORMATION: Title: Representations for Commodity Credit Corporation or Farm Service Agency Loans and Authorization to File a Financing Statement and Related Documents.

OMB Control Number: 0560-0215.

Expiration Date of Approval: June 30, 2018.

Type of Request: Extension with a revision.

Abstract: Form CCC-10, “Representations for Commodity Credit Corporation or Farm Service Agency Loans and Authorization to File a Financing Statement and Related Documents” is necessary to:

(a) Gather or verify basic data, provided by a CCC or FSA loan applicant, that is required on a financing statement filed by CCC or FSA to perfect a security interest in collateral used to secure a loan; and

(b) Obtain applicant permission to file a financing statement prior to the execution of a security agreement.

FSA's Farm Loan Programs (FLP) uses the CCC-10 when a nonapplicant third party pledges the full value of chattel security to FSA as adequate security required for an FLP loan.

Both CCC's Marketing Assistance Loan and Farm Storage Facility Loan programs also use the CCC-10, but are exempt from the provisions of the Paperwork Reduction Act according to the Agricultural Act of 2014 (Pub. L. 113-79, Title I, Subtitle F—Administration).

FSA is increasing the number of respondents by 360, since the last request. The burden hours will decrease by 2,088 hours due to not needing to account for the travel time in the burden hours.

For the following estimated total annual burden on respondents, the formula used to calculate the total burden hours is the estimated average time per response multiplied by the estimated total annual of responses.

Estimated Annual Burden: The public reporting burden for this information collection is estimated to average 5 minutes per response (0.083 of an hours).

Respondents: Individual producers and farming entities.

Estimated Number of Respondents: 2,868.

Estimated Number of Responses per Respondent: 1.

Estimated Total Annual Response: 2,868.

Estimated Average Time per Response: 0.083 of an hours (average 5 minutes).

Estimated Total Annual Burden on Respondents: 238.

We are requesting comments on all aspects of this information collection to help us to:

(1) Evaluate whether the proposed collection of information is necessary for the proper performance of the functions of the agency, including whether the information will have practical utility;

(2) Evaluate the accuracy of the agency's estimate of the burden of the collection of information, including the validity of the methodology and assumptions used;

(3) Evaluate the quality, ability and clarity of the information technology; and

(4) Minimize the burden of the information collection on those who respond through the use of appropriate automated, electronic, mechanical, or other technological collection techniques or other forms of information.

All responses to this notice, including names and addresses when provided, will be summarized and included in the request for OMB approval. All comments will also become a matter of public record.

Steven J. Peterson,
Executive Vice President, Commodity Credit Corporation, Acting Administrator, Farm Service Agency.

[FR Doc. 2018-02741 Filed 2-9-18; 8:45 am]

BILLING CODE 3410-05-P